DEPARTMENT OF DEFENSE

Department of the Navy

Meeting of the Board of Advisors to the Presidents of the Naval Postgraduate School and the Naval War College

AGENCY: Department of the Navy, DoD.

ACTION: Notice of open meeting.

SUMMARY: Pursuant to the provisions of the Federal Advisory Committee Act (Pub. L. 92-463, as amended), notice is hereby given that the following meeting of the Board of Advisors (BOA) to the Presidents of the Naval Postgraduate School (NPS) and the Naval War College (NWC) will be held. This meeting will be open to the public.

DATES: The meeting will be held on Tuesday, October 19, 2010, from 8 a.m. to 4 p.m. and on Wednesday, October 20, 2010, from 8 a.m. to 4 p.m. (Eastern Standard Time).

ADDRESSES: The meeting will be held at the Office of Naval Research, 875 N. Randolph Street, Arlington, VA.

FOR FURTHER INFORMATION CONTACT: Ms. Jaye Panza, Naval Postgraduate School, Monterey, CA 93943-5001, telephone number 831-656-2514.

SUPPLEMENTARY INFORMATION: The purpose of the meeting is to elicit the advice of the Board on the Naval Service's Postgraduate Education Program and the collaborative exchange and partnership between NPS and the Air Force Institute of Technology (AFIT). The Board examines the effectiveness with which the NPS and the NWC are accomplishing its mission. To this end, the Board will inquire into the curricula; instruction; physical equipment; administration; state of morale of the student body, faculty, and staff; fiscal affairs; and any other matters relating to the operations of the NPS and the NWC as the Board considers pertinent. Individuals without a DoD Government Common Access Card will require an escort at the meeting location. For access, information, or to send written comments regarding the NPS BOA, contact Ms. Jaye Panza, Naval Postgraduate School, 1 University Circle, Monterey, CA 93943-5001 or by fax 831-656-3145 by October 8, 2010.

Dated: August 27, 2010.
D.J. Werner,
Lieutenant Commander, Judge Advocate Generals Corps, U.S. Navy, Federal Register Liaison Officer.

[FR Doc. 2010-21924 Filed 9-1-10; 8:45 am]

BILLING CODE 3810-FF-P